NATIONAL SCIENCE FOUNDATION

Notice of Permit Modification Issued Under the Antarctic Conservation Act of 1978

AGENCY: National Science Foundation.

ACTION: Notice of permit modification issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Officer, Office of Polar Programs, Rm. 755, National Science Foundation, 4201 Wilson Boulevard, Arlington, VA 22230.

SUPPLEMENTARY INFORMATION: On March 12, 2012, notice was published in the Federal Register of a request for modification to permit 2010 WM-04 (RPSC) for waste management activities at all U.S. Antarctic Program facilities in Antarctica. The requested modification transfers responsibility for waste management activities from the incumbent support contractor, Raytheon Polar Services Company, to Lockheed Martin Corporation. The transfer modified the permit to change the permit holder from Raytheon Polar Services Company to Lockheed Martin Corporation, who is the sole holder of the permit. All special conditions of the original permit remain the same except for the change in name of the permit holder. All references to Raytheon Polar Services Company now apply to Lockheed Martine Corporation.

Nadene G. Kennedy,
Permit Officer.

[FR Doc. 2012-7293 Filed 3-26-12; 8:45 am]

BILLING CODE P